DEPARTMENT OF HOMELAND SECURITY

Coast Guard

[USCG-2006-24851]

Draft Environmental Assessment, Draft Finding of No Significant Impact, and Draft Memorandum of Agreement for the Decommissioning and Excessing of the U.S. Coast Guard Cutters STORIS (WMEC-38) and ACUSHNET (WMEC-167)

AGENCY: Coast Guard, DHS.

ACTION: Notice of availability and request for comments.

SUMMARY: The U.S. Coast Guard (USCG) announces the availability of, and seeks comment on, the Environmental Assessment and Draft Finding of No Significant Impact for the proposed decommissioning of the USCG cutters STORIS (WMEC-38) and ACUSHNET (WMEC-167) in Ketchikan and Kodiak, Alaska. The USCG is also announcing the availability and seeking comment on a related Draft Memorandum of Agreement (MOA) with the Alaska State Historic Preservation Office (AK SHPO) and the General Services Administration (GSA).

DATES: Comments and related material must reach Coast Guard Headquarters on or before November 27, 2006.

ADDRESSES: Please submit comments by only one of the following means:

(1) By e-mail to Susan Hathaway at Susan.G.Hathaway@uscg.mil.

(2) By conventional mail delivery to Susan Hathaway, Headquarters, United States Coast Guard, Assistant Commandant for Engineering and Logistics, Environmental Management (CG-443), 2100 Second St., SW., Rm. 6109, Washington, DC 20593.

(3) By fax to Susan Hathaway at (202) 475-5956.

(4) Through the Web Site for the Docket Management System at http://dms.dot.gov. The Docket Management Facility maintains the public docket. Comments will become part of this docket and will be available for inspection or copying at the Nassif Building, 400 Seventh Street, SW., Room PL-401, Washington, DC between 9 a.m. and 5 p.m., Monday through Friday, except for Federal holidays. You may also view this docket, including this notice and comments, on the Internet at http://dms.dot.gov. Click on Simple Search and enter the docket number (24851).

FOR FURTHER INFORMATION CONTACT: By mail: Susan Hathaway, Headquarters, United States Coast Guard, Assistant Commandant for Engineering and Logistics, Environmental Management (CG-443), 2100 Second St., SW., Rm. 6109, Washington, DC 20593; by telephone: (202) 475-5688; by fax: (202) 475-5956; or by e-mail: Susan.G.Hathaway@uscg.mil.

To view and download the Environmental Assessment (EA), Draft Finding of No Significant Impact (FONSI), and Memorandum of Agreement (MOA), please go to http://www.uscg.mil/systems/gse/NEPAhot.htm and scroll to ACUSHNET and STORIS Decommissioning EA for Public Review. The EA, Draft FONSI, and MOA can also be viewed and downloaded from the Docket Management System at http://dms.dot.gov. Click on Simple Search and enter the docket number (24851). The Draft FONSI is after the cover sheet at the front of the EA and the MOA is Appendix D of the EA.

SUPPLEMENTARY INFORMATION:

Request for Comments

We encourage you to submit comments on the EA, Draft FONSI, and MOA. If you do so, please include your name and address, identify the docket number for this notice (USCG-2006-24851), and give the reasons for each comment. You may submit your comments by mail, hand delivery, fax, or electronic means to the Docket Management Facility at the addresses under ADDRESSES but please submit your comments by only one means. If you submit them by mail or hand delivery, submit them in an unbound format, no larger than 8½ by 11 inches, suitable for copying and electronic filing. If you submit them by mail and would like to know they reached the Facility, please enclose a stamped, self-addressed postcard or envelope. We will consider all comments received during the comment period.

Proposed Action

After over 60 years of continuous service, the USCGCs STORIS (WMEC-38) and ACUSHNET (WMEC-167) have reached the end of their service lives. The USCG intends to decommission the USCGC STORIS (WMEC-38) in 2007 and the USCGC ACUSHNET (WMEC-167) between 2008 and 2010, and report the vessels as excess personal property to the U.S. General Services Administration (GSA) pursuant to the Federal Property and Administrative Services Act of 1949 and its implementing regulations at Title 41, Code of Federal Regulations (CFR), part 102-36 (41 CFR part 102-36).

Preparation of the EA for the decommissioning of the USCGCs STORIS (WMEC-38) and ACUSHNET (WMEC-167) is being conducted in accordance with the National Environmental Policy Act (NEPA) of 1969 (Section 102[2][c]) and its implementing regulations at 40 CFR Part 1500.

Environmental Assessment

An EA has been prepared that identifies and examines alternatives including a no action alternative and the preferred alternative, the decommissioning and subsequent reporting of the vessels to GSA, as well as a third possible outcome, that is beyond the control of the Coast Guard and entails passage by Congress of specific legislation that directs the vessels' disposition. The EA assesses the potential environmental impacts of these alternatives and the additional possibility of specific legislation.

As the Coast Guard has determined that the vessels are historic for purposes of Section 106 of the National Historic Preservation Act of 1966, the Coast Guard has engaged in Section 106 consultation with the Alaska State Historic Preservation Office (AK SHPO) in developing a MOA on the Coast Guard's intended action of decommissioning of the USCGCs STORIS (WMEC-38) and ACUSHNET (WMEC-167) and then reporting the vessels as excess personal property to GSA. GSA also participated in the development of the MOA.

The Draft FONSI records the USCG's determination that the Proposed Action would have no significant impact on the environment.

The USCG will consider all comments received by the close of business on November 27, 2006.

Dated: October 19, 2006.
Captain Douglas J. Wisniewski,
Acting Director of Enforcement and Incident Management Directorate, U.S. Coast Guard.

[FR Doc. E6-17900 Filed 10-25-06; 8:45 am]

BILLING CODE 4910-15-P